DEPARTMENT OF TRANSPORTATION

Federal Aviation Administration

14 CFR Part 39

[Docket No. FAA-2017-1166; Product Identifier 2017-CE-042-AD]

RIN 2120-AA64

Airworthiness Directives; GA 8 Airvan (Pty) Ltd Airplanes

AGENCY: Federal Aviation Administration (FAA), Department of Transportation (DOT).

ACTION: Notice of proposed rulemaking (NPRM).

SUMMARY: We propose to supersede Airworthiness Directive (AD) 2013-19-12 for GA 8 Airvan (Pty) Ltd Models GA8 and GA8-TC320 airplanes. This proposed AD results from mandatory continuing airworthiness information (MCAI) originated by an aviation authority of another country to identify and correct an unsafe condition on an aviation product. The MCAI describes the unsafe condition as the fuel system integral sump tank does not meet FAA regulations. We are issuing this proposed AD to require actions to address the unsafe condition on these products.

DATES: We must receive comments on this proposed AD by February 2, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact GA 8 Airvan (Pty) Ltd, c/o GippsAero Pty Ltd, Attn: Technical Services, P.O. Box 881, Morwell Victoria 3840, Australia; telephone: + 61 03 5172 1200; fax: +61 03 5172 1201; email: aircraft.techpubs@mahindraaerospace.com. You may review copies of the referenced service information at the FAA, Policy and Innovation Division, 901 Locust, Kansas City, Missouri 64106. For information on the availability of this material at the FAA, call (816) 329-4148.

Examining the AD Docket

You may examine the AD docket on the internet at http://www.regulations.gov by searching for and locating Docket No. FAA-2017-1166; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2017-1166; Product Identifier 2017-CE-042-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

We issued AD 2013-19-12, Amendment 39-17594 (78 FR 58872, September 25, 2013) (“AD 2013-19-12”). That AD required actions intended to address an unsafe condition on GA 8 Airvan (Pty) Ltd Models GA8 and GA8-TC320 airplanes and was based on mandatory continuing airworthiness information (MCAI) originated by an aviation authority of another country.

Since we issued AD 2013-19-12, the related service information has been amended to incorporate a modification to ventilate the area around the integral sump tank.

The Civil Aviation Safety Authority (CASA), which is the aviation authority for Australia, has issued AD No. AD/GA8/7, Amendment 1, dated November 13, 2017 (referred to after this as “the MCAI”), to correct an unsafe condition for the specified products. The MCAI states:

The GippsAero GA8 and GA8-TC 320 aircraft Mk II fuel system features an integral sump tank located in the floor structure forward of the co-pilot seat. The current configuration of the compartments adjacent to the Mk II sump tank does not meet the requirements of regulation 23.967 (b) of the Federal Aviation Regulations of the United States of America in that they are not suitably ventilated and drained to prevent the accumulation of flammable fluids or vapours.

Amendment 1 of this [CASA] directive mandates ventilation of the area around the integral sump tank as presented in SB-GA8-2012-96 Issue 6 to meet the requirements of regulation 23.967 (b) of the Federal Aviation Regulations of the United States of America.

You may examine the MCAI on the internet at http://www.regulations.gov by searching for and locating Docket No. FAA-2017-1166.

Related Service Information Under 1 CFR Part 51

GippsAero has issued Service Bulletin SB-GA8-2012-96, Issue 6, dated July 21, 2016. This service information describes procedures for modifying the fuel ventilation and drainage system. This service information is reasonably available because the interested parties have access to it through their normal course of business or by the means identified in the ADDRESSES section of this NPRM.

FAA's Determination and Requirements of This Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 47 products of U.S. registry. We also estimate that it would take about 3 work-hours per product to do fuel system ventilation and drainage modification requirement of this proposed AD (this action is retained from AD 2013-19-12). The average labor rate is $85 per work-hour.

Based on these figures, we estimate the cost of this portion of this proposed AD on U.S. operators to be $11,985, or $255 per product.

We also estimate that it would take about 4 work-hours per product to do the supplementary fuel ventilation modification requirement of this proposed AD. The average labor rate is $85 per work-hour. Required parts would cost about $932 per product.

Based on these figures, we estimate the cost of this portion of this proposed AD on U.S. operators to be $59,784, or $1,272 per product.

In addition, we estimate that it would take about 4 work-hours per product to do the cargo pod modification requirement of this proposed AD (this action is retained from AD 2013-19-12). The average labor rate is $85 per work-hour. Required parts would cost about $1,000 per product, for a proposed cost of $1,340 per product. We have no way of determining the number of products that may need this action.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17594 (78 FR 58872, September 25, 2013), and adding the following new AD:

GA 8 Airvan (Pty) Ltd: Docket No. FAA-2017-1166; Product Identifier 2017-CE-042-AD.

(a) Comments Due Date

We must receive comments by February 2, 2018.

(b) Affected ADs

This AD replaces AD 2013-19-12, Amendment 39-17594 (78 FR 58872, September 25, 2013) (“AD 2013-19-12”).

(c) Applicability

This AD applies to the following GA 8 Airvan (Pty) Ltd airplane models and serial numbers (S/Ns) presented in paragraphs (c)(1) and (c)(2) that are certificated in any category:

(1) Group 1 Airplanes:

(i) Model GA8: S/N GA8-02-012 and S/Ns 128 through 205; and

(ii) Model GA8-TC320: S/Ns GA8-TC 320-02-016, GA8-TC 320-03-025, GA8-TC 320-09-120, and S/Ns 129 through 205.

(2) Group 2 Airplanes:

(i) Model GA8: S/N GA8-02-012 and S/Ns 128 through 246; and

(ii) Model GA8-TC320: S/Ns GA8-TC 320-02-016, GA8-TC 320-03-025, GA8-TC 320-09-120, and S/Ns 129 through 246.

Note 1 to paragraph (c) of this AD: The last three digits (third tier designation) of the affected airplane model S/Ns are sequential regardless of the model designation (first tier designation) or the year produced (second tier designation).

(d) Subject

Air Transport Association of America (ATA) Code 21: Fuel System.

(e) Reason

This AD was prompted by mandatory continuing airworthiness information (MCAI) issued by the aviation authority of another country to identify and correct an unsafe condition on an aviation product. The MCAI describes the unsafe condition as the fuel system integral sump tank does not meet FAA regulations. We are issuing this AD to prevent the accumulation of flammable fluids or vapors, which could lead to a flammability issue.

(f) Actions and Compliance

Unless already done, do the following actions:

(1) For all affected Group 1 airplanes: Within the next 100 hours time-in-service (TIS) after the effective date of this AD or within the next 3 months after the effective date of this AD, whichever occurs first, modify the airplane following Part 1 of GippsAero Service Bulletin SB-GA8-2012-96, Issue 6, dated July 21, 2016. If the airplane was previously affected under AD 2013-19-12 and compliance with that AD has already been done, this AD allows credit for doing this modification following Part 1 of GippsAero Mandatory Service Bulletin SB-GA8-2012-96, Issue 4, dated August 12, 2013.

(2) For affected Group 1 airplanes that are equipped with a cargo pod part number GA8-255004-017 or GA8-255004-019: Before further flight after the modification required in paragraph (f)(1) of this AD, modify the cargo pod following part 2 of GippsAero Service Bulletin SB-GA8-2012-96, Issue 6, dated July 21, 2016. If the airplane was previously affected under AD 2013-19-12 and compliance with that AD has already been done, this AD allows credit for doing this modification following part 2 of GippsAero Mandatory Service Bulletin SB-GA8-2012-96, Issue 4, dated August 12, 2013.

(3) For all affected Group 2 airplanes: Within the next 100 hours TIS after the effective date of this AD or within 3 months after the effective date of this AD, whichever occurs first, modify the airplane following part 3 of GippsAero Service Bulletin SB-GA8-2012-96, Issue 6, dated July 21, 2016.

(g) Credit for Actions Done Following Previous Service Information

This AD allows credit for airplanes that were previously affected by AD 2013-19-12 and the actions required in paragraphs (f)(1) and (f)(2) of this AD were previously done following Part 1 and Part 2 of GippsAero Mandatory Service Bulletin SB-GA8-2012-96, Issue 4, dated August 12, 2013.

(h) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Standards Office, FAA; or the Civil Aviation Safety Authority (CASA).

(i) Related Information

Refer to MCAI Civil Aviation Safety Authority (CASA), which is the aviation authority for Australia, has issued AD No. AD/GA8/7, Amendment 1, dated November 13, 2017; and GippsAero Mandatory Service Bulletin SB-GA8-2012-96, Issue 4, dated August 12, 2013. You may examine the MCAI on the internet at http://www.regulations.gov by searching for and locating Docket No. FAA-2017-1166. For service information related to this AD, contact GA 8 Airvan (Pty) Ltd, c/o GippsAero Pty Ltd, Attn: Technical Services, P.O. Box 881, Morwell Victoria 3840, Australia; telephone: + 61 03 5172 1200; fax: +61 03 5172 1201; email: aircraft.techpubs@mahindraaerospace.com. You may review copies of the referenced service information at the FAA, Policy and Innovation Division, 901 Locust, Kansas City, Missouri 64106. For information on the availability of this material at the FAA, call (816) 329-4148.

Issued in Kansas City, Missouri, on December 12, 2017.
Pat Mullen,
Acting Deputy Director, Policy & Innovation Division, Aircraft Certification Service.

[FR Doc. 2017-27167 Filed 12-18-17; 8:45 am]

BILLING CODE 4910-13-P